DEPARTMENT OF VETERANS AFFAIRS

Solicitation of Nominations for Appointment to the Research Advisory Committee on Gulf War Veterans' Illnesses

ACTION: Notice.

SUMMARY: The Department of Veterans Affairs (VA), Veterans Health Administration (VHA), is seeking nominations of qualified candidates to be considered for appointment as a member of the Research Advisory Committee on Gulf War Veterans' Illnesses (hereinafter referred to as “the Committee”). The Committee was established pursuant to Public Law 105-368, Section 104, to provide advice to the Secretary of Veterans Affairs (Secretary) on the proposed research studies, plans, and strategies related to understanding and treating the health consequences of military service in the Southwest Asia theatre of operations during the 1990-1991 Gulf War. In accordance with the statute and the Committee's current charter, the majority of the membership shall consist of non-Federal employees, appointed by the Secretary from the general public, serving as Special Government employees. The Committee provides, not later than December 1 of each year, an annual report summarizing its activities for the preceding year. The Secretary appoints Committee members for a period of 2 to 3 years. A term of service for any member may not exceed 3 years, but the Secretary may reappoint a member for an additional term of service. Self-nominations and nominations of non-Veterans will be accepted. Any letters of nomination from organizations or other individuals should accompany the package when it is submitted.

In accordance with recently revised guidance regarding the ban on lobbyists serving as members of advisory boards and commissions, Federally-registered lobbyists are prohibited from serving on Federal advisory committees in an individual capacity. Additional information regarding this issue can be found at: www.federalregister.gov/articles/2014/08/13/2014-19140/revised-guidance-on-appointment-of-lobbyists-to-federal-advisory-committees-boards-and-commissions.

DATES: Nominations for membership on the Committee must be received no later than 5:00 p.m., Eastern Standard Time, on August 15, 2016.

ADDRESSES: All nominations should be mailed to Veterans Health Administration, Department of Veterans Affairs, 810 Vermont Avenue NW., (10P9), Washington, DC 20420, emailed to victor.kalasinsky@va.gov, or faxed to (202) 495-6155.

FOR FURTHER INFORMATION CONTACT: Dr. Victor Kalasinsky, Veterans Health Administration, Department of Veterans Affairs, 810 Vermont Avenue NW., (10P), Washington, DC 20420, telephone (202) 443-5600. (This is not a toll free number.) A copy of the Committee's charter and list of the current membership can be obtained by contacting Dr. Kalasinsky or by accessing the Web site: http://www.va.gov/rac-gwvi/.

SUPPLEMENTARY INFORMATION: VHA is requesting nominations for upcoming vacancies on the Committee. The Committee is currently composed of 16 members. The members of the Committee are appointed by the Secretary from the general public, including but not limited to:

(1) Gulf War Veterans;

(2) Representatives of such Veterans;

(3) Members of the medical and scientific communities representing disciplines such as, but not limited to, epidemiology, immunology, environmental health, neurology, and toxicology.

To the extent possible, the Secretary seeks members who have diverse professional and personal qualifications. We ask that nominations include information of this type so that VA can ensure a balanced Committee membership.

The Committee meets at least once and up to three times annually. In accordance with Federal Travel Regulation, Committee members will receive travel expenses and a per diem allowance for any travel made in connection with duties as members of the Committee.

Nomination Package Requirements: Nominations must be typed (12 point font) and include: (1) A letter of nomination that clearly states the name and affiliation of the nominee, the basis for the nomination (i.e., specific attributes which qualify the nominee for service in this capacity), and a statement from the nominee indicating that he/she is a U.S. citizen and is willing to serve as a member of the Committee; (2) the nominee's contact information, including name, mailing address, telephone numbers, and email address; and (3) the nominee's resume or curriculum vitae that is no more than four pages in length. The cover letter must summarize: The nominee's interest in serving on the Committee and contributions she/he can make to the work of the Committee; any relevant Veterans service activities she/he is currently engaged in; the military branch affiliations and timeframe of military service (if applicable). To promote a balanced membership, please provide information about the nominee's personal and professional qualifications and background that would give her/him a diverse perspective on Gulf War Veterans' matters. Finally, please include in the cover letter a statement confirming that she/he is not a Federally-registered lobbyist. The resume should show professional work experience, and Veterans service involvement, especially service that involves Gulf War Veterans' issues.

VA makes every effort to ensure that the membership of its advisory committees is fairly balanced in terms of points of view represented and the Committee's function. Appointments to this Committee shall be made without discrimination based on a person's race, color, religion, sex, sexual orientation, gender identity, national origin, age, disability, or genetic information. Nominations must state that the nominee appears to have no conflict of interest that would preclude membership. An ethics review is conducted for each selected nominee.

Dated: July 25, 2016.
Jelessa M. Burney,
Advisory Committee Management Officer.

[FR Doc. 2016-17873 Filed 7-27-16; 8:45 am]

BILLING CODE P